FEDERAL RESERVE SYSTEM

No FEAR Act

AGENCY: Board of Governors of the Federal Reserve System.

ACTION: Notice.

SUMMARY: The Board of Governors of the Federal Reserve System (Board) is publishing this notice in accordance with Section 202 of the Notification and Federal Employee Antidiscrimination and Retaliation Act of 2002 (No FEAR Act) and the regulations thereunder issued by the Office of Personnel Management concerning notice and training.

EFFECTIVE DATE: October 24, 2006.

FOR FURTHER INFORMATION CONTACT: Joanne D. Kee, Counsel (202/452-2067), Legal Division, Board of Governors of the Federal Reserve System, 20th Street and Constitution Avenue, NW., Washington, DC 20551. Users of Telecommunication Device for Deaf (TDD) only, call 202/263-4869.

SUPPLEMENTARY INFORMATION: By final rule effective September 18, 2006, and consistent with Section 202 of the No FEAR Act, the Office of Personnel Management (OPM) issued regulations concerning Federal agencies' obligation to notify employees, former employees, and applicants of their rights under the antidiscrimination laws referenced in Section 201(a) of the No FEAR Act. Specifically, pursuant to 5 CFR 724.202(c) and (e), agencies must provide their initial notice to such persons by publishing the initial notice in the Federal Register by November 17, 2006.

No FEAR Act Notice

On May 15, 2002, Congress enacted the “Notification and Federal Employee Antidiscrimination and Retaliation Act of 2002,” which is now known as the No FEAR Act. One purpose of the Act is to “require that Federal agencies be accountable for violations of antidiscrimination and whistleblower protection laws.” Pub. L. 107-174, Summary. In support of this purpose, Congress found that “agencies cannot be run effectively if those agencies practice or tolerate discrimination.” Pub. L. 107-174, Title I, General Provisions, section 101(1).

The Act also requires the Board of Governors of the Federal Reserve System (Board) to provide this notice to its employees, former employees, and applicants for employment to inform you of the rights and protections available to you under Federal antidiscrimination laws.

Antidiscrimination Laws

The Board cannot discriminate against an employee or applicant with respect to the terms, conditions or privileges of employment on the basis of race, color, religion, sex, national origin, age, or disability. Discrimination on these bases is prohibited by one or more of the following statutes: 29 U.S.C. 206(d), 29 U.S.C. 631, 29 U.S.C. 633a, 29 U.S.C. 791, and 42 U.S.C. 2000e-16.

If you believe that you have been the victim of unlawful discrimination on the basis of race, color, religion, sex, national origin or disability, you must contact an Equal Employment Opportunity (EEO) counselor within 45 calendar days of the alleged discriminatory action, or, in the case of a personnel action, within 45 calendar days of the effective date of the action, before you can file a formal complaint of discrimination with the Board. See Rules Regarding Equal Opportunity, 12 CFR part 268. If you believe that you have been the victim of unlawful discrimination on the basis of age, you must either contact an EEO counselor as noted above or give notice of intent to sue to the Equal Employment Opportunity Commission (EEOC) within 180 calendar days of the alleged discriminatory action.

Retaliation for Engaging in Protected Activity

The Board cannot retaliate against an employee or applicant because that individual exercises his or her rights under any of the Federal antidiscrimination laws listed above. If you believe that you are the victim of retaliation for engaging in protected activity, you must follow, as appropriate, the procedures described in the Antidiscrimination Laws section (above) in order to pursue any legal remedy.

Disciplinary Actions

Under the existing laws, the Board retains the right, where appropriate, to discipline an employee for conduct that is inconsistent with Federal Antidiscrimination Laws up to and including removal. Nothing in the No FEAR Act alters existing laws or permits an agency to take unfounded disciplinary action against an employee or to violate the procedural rights of an employee who has been accused of discrimination.

Additional Information

For further information regarding the No FEAR Act regulations, refer to 5 CFR part 724, as well as the appropriate office within the Board (the EEO Programs office). Additional information regarding Federal antidiscrimination and retaliation laws can be found at the EEOC Web site— http://www.eeoc.gov, and the EEO Programs Office Web page (accessible by current employees only through Inside the Board).

Existing Rights Unchanged

Pursuant to section 205 of the No FEAR Act, neither the Act nor this notice creates, expands or reduces any rights otherwise available to any employee, former employee or applicant under the laws of the United States.

By order of the Board of Governors of the Federal Reserve System, acting through the Board's Administrative Governor under delegated authority, October 18, 2006.
Jennifer J. Johnson,
Secretary of the Board.

[FR Doc. E6-17730 Filed 10-23-06; 8:45 am]

BILLING CODE 6210-01-P